DEPARTMENT OF THE INTERIOR

Fish and Wildlife Service

Kanuti National Wildlife Refuge, AK

AGENCY: U.S. Fish and Wildlife Service, Interior.

ACTION: Notice of extension of time to review draft revised Comprehensive Conservation Plan and Environmental Assessment for Kanuti National Wildlife Refuge.

SUMMARY: The U.S. Fish and Wildlife Service published FR Doc. E7-9281 in the Federal Register on May 15, 2007, announcing availability of the Draft Revised Comprehensive Conservation Plan and Environmental Assessment for Kanuti National Wildlife Refuge. The document identified a review period ending on July 16, 2007. Because summer is such a busy time in Alaska, we are concerned that many people will not be able to meet our deadline; therefore we announce extension of the review period until September 15, 2007.

DATES: We must receive your comments on or before September 15, 2007.

ADDRESSES: To provide written comments or to request a paper copy or compact disk of the Draft CCP/EA, contact: Peter Wikoff, Planning Team Leader, U.S. Fish and Wildlife Service, 1011 East Tudor Rd., MS. 231, Anchorage, Alaska 99503, or at fw7_kanuti_planning@fws.gov, or at 907-786-3837. You may view or download a copy of the Draft CCP/EA at: alaska.fws.gov/nwr/planning/plans.htm. Copies of the Draft CCP/EA may be viewed at the Kanuti Refuge Office in Fairbanks, Alaska; at local libraries; and at the U.S. Fish and Wildlife Service Regional Office in Anchorage, Alaska.

FOR FURTHER INFORMATION CONTACT: Peter Wikoff at the above address.

SUPPLEMENTARY INFORMATION: The National Wildlife Refuge System Administration Act of 1966, as amended by the Refuge Improvement Act of 1997 (16 U.S.C. 668dd et seq.), requires each refuge to develop and implement a CCP. The U.S. Fish and Wildlife Service published FR Doc. E7-9281 in the Federal Register on May 15, 2007, announcing availability of the Draft Revised Comprehensive Conservation Plan and Environmental Assessment for Kanuti National Wildlife Refuge. The document identified a review period ending on July 16, 2007. Because summer is such a busy time in Alaska, we are concerned that many people would not be able to meet our deadline; therefore we announce extension of the review period until September 15, 2007.

Public availability of comments: Before including your name, address, phone number, e-mail address, or other personal identifying information in your comment, you should be aware that your entire comment—including your personal identifying information—may be made publicly available at any time. While you can ask us in your comment to withhold your personal identifying information from public review, we cannot guarantee that we will be able to do so.

Dated: July 12, 2007.
Thomas O. Melius,
Regional Director, U.S. Fish and Wildlife Service, Anchorage, Alaska.

[FR Doc. E7-13942 Filed 7-17-07; 8:45 am]

BILLING CODE 4310-55-P